DEPARTMENT OF ENERGY

Federal Energy Regulatory Commission

Combined Notice of Filings #1

Take notice that the Commission received the following electric corporate filings:

Docket Numbers: EC13-82-000.

Applicants: Dominion Energy Brayton Point, LLC, Kincaid Generation, L.L.C., Elwood Energy, LLC.

Description: Section 203 Application of Dominion Energy Brayton Point, LLC, et al.

Filed Date: 3/21/13.

Accession Number: 20130321-5088.

Comments Due: 5 p.m. ET 5/20/13.

Docket Numbers: EC13-85-000

Applicants: BIV Generation Company, L.L.C., Colorado Power Partners, Rocky Mountain Power, LLC, San Joaquin Cogen, LLC.

Description: Application for Authorization for Disposition of Jurisdictional Facilities of BIV Generation Company, L.L.C., et al.

Filed Date: 3/26/13.

Accession Number: 20130326-5509.

Comments Due: 5 p.m. ET 4/16/13.

Take notice that the Commission received the following electric rate filings:

Docket Numbers: ER10-2985-009; ER10-3049-010; ER10-3051-010.

Applicants: Champion Energy Marketing LLC, Champion Energy Services, LLC, Champion Energy, LLC.

Description: Supplement to January 9, 2013 Updated Market Power Analysis for the Southwest Region of Champion Energy Marketing LLC, et al.

Filed Date: 3/26/13.

Accession Number: 20130326-5492.

Comments Due: 5 p.m. ET 4/16/13.

Docket Numbers: ER13-1165-000.

Applicants: American Electric Power Service Corporation, Ohio Power Company, AEP Ohio Transmission Company, Inc., PJM Interconnection, L.L.C.

Description: AEPSC submits 38th Revised Service Agreement No. 1336 among AEPSC & Buckeye to be effective 2/26/2013.

Filed Date: 3/26/13.

Accession Number: 20130326-5325.

Comments Due: 5 p.m. ET 4/16/13.

Docket Numbers: ER13-1166-000.

Applicants: PJM Interconnection, L.L.C.

Description: Revisions to the PJM OATT, OA & RAA removing obsolete references to ILR/ALM to be effective 5/28/2013.

Filed Date: 3/26/13.

Accession Number: 20130326-5444.

Comments Due: 5 p.m. ET 4/16/13.

Docket Numbers: ER13-1167-000.

Applicants: Delaware Municipal Electric Corporation, Inc.

Description: Delaware Municipal Electric Corporation, Inc. Initial Rate Schedule to be effective 5/1/2013.

Filed Date: 3/27/13.

Accession Number: 20130327-5016.

Comments Due: 5 p.m. ET 4/17/13.

Docket Numbers: ER13-1168-000.

Applicants: Wabash Valley Power Association, Inc.

Description: Wabash Valley Power Association, Inc. submits tariff filing per 35.13(a)(2)(iii: Amendments to Rate Schedules—Carroll White to be effective 5/27/2013 under ER13-1168 Filing Type: 10.

Filed Date: 3/27/13.

Accession Number: 20130327-5075.

Comments Due: 5 p.m. ET 4/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2013.
Nathaniel J. Davis, Sr.,
Deputy Secretary.

[FR Doc. 2013-08059 Filed 4-5-13; 8:45 am]

BILLING CODE 6717-01-P